DEPARTMENT OF EDUCATION

[Docket ID ED-2025-OESE-0153]

Mental Health Service Professional Demonstration Grant Program

AGENCY: U.S. Department of Education.

ACTION: Final priorities, requirements, and definitions.

SUMMARY: The Department of Education (Department) announces final priorities, requirements, and definitions under the Mental Health Service Professional Demonstration Grant Program (MHSP), Assistance Listing Number (ALN) 84.184X. We may use one or more of these priorities, requirements, and definitions for competitions in fiscal year (FY) 2025 and later years. These final priorities, requirements, and definitions are designed to better target activities to address shortages of school-based mental health services providers, specifically school psychologists, in high-need local educational agencies (LEAs). These priorities, requirements, and definitions replace the Notice of Final Priorities, Requirements, and Definitions published in the Federal Register on October 4, 2022 (87 FR 60083). However, those priorities, requirements, and definitions remain in effect for previous grant competitions in which the notices inviting applications (NIAs) were published before the Department finalized the proposed priorities, requirements, and definitions in this notice.

DATES: The final priorities, requirements, and definitions are effective October 29, 2025.

FOR FURTHER INFORMATION CONTACT: Dana Carr, U.S. Department of Education, 400 Maryland Avenue SW, Room 4B210, Washington, DC 20202-6450. Telephone: (202) 987-0119. Email: Mental.Health@ed.gov.

If you are deaf, hard of hearing, or have a speech disability and wish to access telecommunications relay services, please dial 7-1-1.

SUPPLEMENTARY INFORMATION:

Purpose of this Regulatory Action: On July 17, 2025, the Department published a notice of proposed priorities, requirements, and definitions (NPP) in the Federal Register (90 FR 33349). Through this regulatory action, we establish final priorities, requirements, and definitions that the Department may use for competitions in fiscal year (FY) 2025 and later years.

Summary of the Major Provisions of This Regulatory Action: The NPP contained background information and our reasons for proposing the priorities, requirements, and definitions. There is a minor clarification between the proposed priorities, requirements, and definitions and the final priorities, requirements, and definitions established in this notice of final priorities, requirements, and definitions (NFP), as discussed in the Analysis of Comments and Changes section in this document.

Purpose of Program: The MHSP program provides competitive grants to State educational agencies (SEAs) (as defined in 20 U.S.C. 7801(30)) and local educational agencies (LEAs) (as defined in 20 U.S.C. 7801(49)) to address the shortage of credentialed school-based mental health services providers, specifically school psychologists, in high-need LEAs.

Program Authority: Section 4631(a)(1)(B) of the Elementary and Secondary Education Act of 1965, as amended (ESEA) (20 U.S.C. 7281(a)(1)(B)).

Public Comment: In response to our invitation in the NPP, the Department received comments from over 1,900 commenters on the proposed priorities, requirements, and definitions.

Generally, we do not address technical and other minor changes, or suggested changes that the law does not authorize us to make under applicable statutory authority. In addition, we do not address general comments regarding concerns not directly related to the proposed priorities, requirements, or definitions.

Analysis of Comments and Changes: An analysis of the comments and of any changes in the priorities and definitions since publication of the NPP follows.

General Comments

Comments: Many commenters supported the proposed priorities, requirements, and definitions, such as those related to limiting the scope of the program, and specific restrictions related to using program funds to support gender ideology and increasing requirements related to parental consent. A few commenters, however, suggested that the Department not support the expenditure of funds for mental health grants and instead recommended that the Department remain solely focused on supporting academic achievement. Other commenters opposed some of the proposed changes to the priorities, as well as some of the requirements and definitions, as detailed below.

Discussion: We appreciate the comments expressing support for the priorities, requirements, and definitions. The Department recognizes the connection between mental health and learning. Students facing mental health challenges may be unable to focus on learning, and increasing the capacity of schools to provide needed services to students may support these students' academic engagement. In addition, the Department is committed to implementing the Bipartisan Safer Communities Act as planned, which requires the Department to support mental health grant programs through FY 2026.

Changes: None.

Priorities

Comments: Many commenters recommended that the Department revise the priorities, requirements, and definitions, where applicable, to include training of State-licensed or certified school counselors and social workers, in addition to school psychologists. Many commenters suggested these changes because they believe school counselors and school social workers are necessary to meet the full continuum of mental health needs of students. A few also stated that other professionals, such as those licensed as occupational therapists or licensed family therapists, should also be included because, in some States, their credential allows them to provide necessary mental health services to students. In addition, many commenters pointed out that the functions of school psychologists delineated in the notice are not commonly carried out by school psychologists, but rather undertaken by school social workers, school counselors, or other school-based mental health providers. Commenters stated that one function school psychologists often carry out is educational testing.

Discussion: The Department believes that school psychologists are the school-based officials who are clinically trained and licensed to provide early intervention and intensive mental health services to students most in need. While commenters may support a team of school-based mental health providers that includes school counselors, school social workers, and other professionals, such as licensed occupational therapists or licensed family therapists, the Department believes school psychologists are best suited to provide these clinical services and is choosing to prioritize SBMH funds accordingly.

Over the past several years, concerns about the mental health of children and youth have increased.¹ From documented increases in emergency room visits for mental health crises, to reports of increased sadness and hopelessness among adolescents, the Department believes schools play an integral role in helping to meet youth mental health service needs.2 3 The Department is focusing this program on school psychologists, as opposed to school counselors and school social workers, because these individuals have training that is uniquely focused on the intersection between students' behaviors, motivations, disabilities, mental health and the impact that all of these variables may have on learning. While other providers may have a more focused skillset or may support students more generally, school psychologists are trained to both assess and identify students with the greatest mental and behavioral health needs and provide targeted services to address those needs and re-engage students in learning.

¹ For example, death due to suicide among adolescents ages 12-17 increased by 75.7% (rising from 3.7 to 6.5 deaths per 100,000 population) between 2008 and 2021. See 2023 National Healthcare Quality and Disparities Report. Available at: https://www.ahrq.gov/research/findings/nhqrdr/nhqdr23/index.html. Accessed September 22, 2025.

² Feuer V, Mooneyham GC, Malas NM. Pediatric Boarding Consensus Guidelines Panel. Addressing the Pediatric Mental Health Crisis in Emergency Departments in the US: Findings of a National Pediatric Boarding Consensus Panel. J Acad Consult Liaison Psychiatry. 2023 Nov-Dec;64(6):501-511.

³ U.S. Department of Health and Human Services. Centers for Disease Control and Prevention. 2023 Youth Risk Behavior Survey Results. Available at: https://www.cdc.gov/yrbs/results/2023-yrbs-results.html. Accessed September 22, 2025.

While schools may continue to hire and train school counselors and social workers using State and local funds, the Department's policy approach is to use its limited Federal funds to focus on school psychologists because of their expertise to both assess and identify students with the greatest needs and provide specialized services appropriate to those needs.

Changes: None.

Comments: Many commenters noted that rural LEAs face unique challenges in recruiting and retaining school psychologists, given the limited number of graduate programs in rural areas.

Discussion: Rural LEAs can use this opportunity to partner with Institutions of Higher Education (IHEs), or other entities recognized by the State, to create or enhance sustainable workforce pipeline approaches to increase the number of participants, and graduates who are preparing for a credential in school psychology. Additionally, the Department has a priority available in the Education Department General Administrative Regulations (EDGAR) at 34 CFR 75.227, which authorizes the Department to prioritize rural areas, if appropriate for a given competition. As such, we decline to make any changes.

Changes: None.

Comments: Although a few commenters support the use of funds to exclusively focus on intensive services, and one commenter suggested not including intensive services at all, many commenters recommended that the Department expand the priorities, requirements, and definitions where applicable from focusing on early intervention and intensive services to include the full continuum of services and approaches aligned with a Multi-Tiered System of Support (MTSS). A MTSS continuum, as noted by many commenters, includes universal or preventive approaches for the entire student body and school to decrease the need for higher-level and intensive services.

Discussion: The Department is prioritizing early intervention and intensive mental health services in this program to maximize Federal funds to support mental health services for students who need them and wants to ensure that graduate training programs are properly preparing school psychology graduate candidates to provide these services

Changes: None.

Comments: A few commenters recommended that the Department include substance abuse as part of the service delivery scope in the priorities, requirements, and definitions, as applicable.

Discussion: The Department recognizes the complex intersection of substance use and mental health. School psychologists trained and hired to provide early intervention and intensive mental health services under this program can address these needs as part of their provision of mental health services to the extent they impact the student's engagement in school. However, funds cannot be used for other substance use treatment services apart from early intervention or intensive mental health services.

Changes: None.

Requirements

Comments: Many commenters encouraged the Department to include IHEs as eligible applicants as part of Program Requirement (a).

Discussion: The Department is committed to returning education to the States. As such, SEAs and their LEAs are the appropriate recipients of these funds, rather than IHEs. However, the Department recognizes that IHEs, as well as other entities recognized by the State, or the State itself, are important partners to ensuring high-quality preparation of school psychologists. Accordingly, applicants are required to describe in their applications how their proposed projects will include a school-based mental health partnership, designed to train school psychology graduate candidates that includes an eligible partner, as defined in this notice. Applicants that receive an award under this program must provide within six months of award a memorandum of understanding (MOU), a memorandum of agreement (MOA), or letter of agreement documenting the applicant's school-based mental health partnership that includes an eligible partner.

Changes: None.

Comments: One commenter suggested that Program Requirement (b) related to supplementing, not supplanting State and local funds may hinder the ability of LEAs to build the infrastructure needed for their school-based mental health workforce, particularly for rural and underserved areas.

Discussion: The supplement, not supplant requirement in this program is consistent with grant requirements across many of the Department's programs and ensures that limited Federal funds are used efficiently and complement State and local initiatives.

Changes: None.

Comments: A few commenters recommended that the Department eliminate Program Requirement (c), which establishes a cap on SEA and LEA administrative costs. Commenters stated that the administrative cap on LEAs could limit their ability to carry out project activities by creating a financial burden.

Discussion: The Department believes that these funds should be used to deliver early intervention and intensive mental health services to students and only a limited amount of Federal funds should be used to cover administrative costs of the program. LEAs can use State or local funds for additional programmatic and administrative costs.

Changes: None.

Comments: Although a few commenters supported Program Requirement (d), which prohibits the use of funds for “gender ideology,” “political activism,” “racial stereotyping,” and “hostile environments for students of particular races,” many recommended eliminating this Program Requirement, citing potential harm to students as well as the ambiguity of the terms included. Many commenters expressed that this requirement would actively threaten the mental health and safety of transgender students or those who identify as LGBTQ+, and that it could create barriers to access for needed mental health services. One commenter stated that the proposed rule unlawfully discriminates against students who identify as transgender and could conflict with State or local laws protecting students and establishing licensing and certification requirements.

Discussion: The Department believes it is not the role of school psychologists to promote particular ideologies or stereotypes when addressing the mental health needs of students. The intent of Program Requirement (d) is not to harm or limit services to students, but to ensure that program funds are particularly focused on providing targeted mental health services without tying such services to particular ideologies or stereotypes. The four prohibitions on the use of funds in Program Requirement (d) reflect the Department's concern regarding the prior administration's policy to use MHSP program funds in ways that strayed from the original intent and purposes of the MHSP program. For example, the 2022 Notice of Final Priorities for this program (87 FR 60083 (October 4, 2022)) established priorities that incentivized racial preferencing and racial stereotyping in order to receive preference for grant funding. In the current NFP, these requirements on their face do not impose any barriers or restrictions whatsoever on students receiving mental health services, and, as explained below, are instead concerned with addressing activities the Department anticipates could result in violations of federal law. Additionally, the Department does not believe that Program Requirement (d) would impact the ability of any school psychologist to receive a license or certification. The Department is not aware of any licensing or certification authority that would require adherence to, or compliance with, any of the grant funding prohibitions in Program Requirement (d) in order to receive a license or certification. Similarly, the Department is not aware of State laws compelling adherence or compliance with these grant funding prohibitions as described herein.

Changes: None.

Comments: Many commenters recommended that the Department define the terms included in Program Requirement (d), including “gender ideology,” “political activism,” “racial stereotyping,” and “hostile environments for students of particular races.” Many commenters asked that the Department also provide examples of allowable activities. A few commenters pointed out that the terms used in the proposed requirement are overly broad, do not contain a reasoned explanation for incorporating these terms into the grant program, and no standards exist against which to assess potential activities.

Discussion: As noted above, the four prohibitions identified in Program Requirement (d) reflect the Department's concern regarding the prior administration's policy to use MHSP program funds in ways that strayed from the original intent and purposes of the MHSP program. For example, the 2022 Notice of Final Priorities for this program (87 FR 60083 (October 4, 2022)) established priorities that incentivized racial preferencing and racial stereotyping as a condition to receive a grant. While the Department declines to further define these prohibitions as their terms are commonly used and understood, we would view potential violations of these prohibitions similarly to potential violations of our civil rights laws. For instance, using federal funds for “gender ideology” may be inconsistent with Title IX of the Education Amendments Act of 1972 (20 U.S.C. 1681 et seq.). “Political activism” is conduct that could be inconsistent with the restrictions described in 31 U.S.C. 1352 and 2 CFR 200.450. And using funds to engage in “Racial stereotyping” or create “hostile environments for students of particular races” may be inconsistent with Title VI of the Civil Rights Act of 1964 (42 U.S.C. 2000d et seq.).

Regarding commenters' requests for the Department to provide guidance regarding allowable activities, we encourage commenters to read resources such as the Department of Justice's “Guidance for Recipients of Federal Funding Regarding Unlawful Discrimination,” ⁴ which contains many helpful examples, and the President's Executive Order 14168, which describes the policy of the federal government regarding gender ideology.⁵

⁴ See https://www.justice.gov/opa/pr/justice-department-releases-guidance-recipients-federal-funding-regarding-unlawful. Last Accessed September 22, 2025.

⁵ See https://www.whitehouse.gov/presidential-actions/2025/01/defending-women-from-gender-ideology-extremism-and-restoring-biological-truth-to-the-federal-government/. Last Accessed September 22, 2025.

Changes: None.

Comments: Many commenters stated that the Department should promote safe and healthy learning environments for all students, and that Requirement (d), which prohibits applicants who receive an award under this program from using program funds for promoting or endorsing: (1) gender ideology, (2) political activism, (3) racial stereotyping, or (4) hostile environments for students of particular races actually creates an unsafe school climate because of the chilling effects of limiting speech with, or services for, specific students.

Discussion: The Department disagrees that Program Requirement (d) would limit speech or services to students. Indeed, by its plain language, Program Requirement (d) is a requirement on use-of-funds that applies to potential grantees under this program. Had the Department sought to more affirmatively establish participation requirements or limit the eligible students to be served under this program, it would have done so. Rather, the Department has left it up to potential grantees to determine how they will provide “intensive mental health services and supports to individual students most in need of those services” within the requirements established for this program. Additionally, regarding the commenters' concerns for student speech, since the seminal Supreme Court case Tinker v. Des Moines (393 U.S. 503) (1969), students have enjoyed robust First Amendment protections in school settings and, in general, do not “shed their constitutional rights. . .at the schoolhouse gate”. No such prohibition regarding speech is contemplated by these plain use-of-grant-funds requirements. However, to be responsive to commenter's concerns, and to further clarify that the Department's priorities delineate limits on only the use of grant funds for the MHSP program, we have revised the lead-in to the requirement to clarify these prohibitions are not repugnant to the First Amendment to the Constitution of the United States.

Changes: The Department has revised Program Requirement (d) by removing “promoting and endorsing.”

Comments: None.

Discussion: Consistent with other Departmental regulatory actions, the Department is including a severability clause within the NFP. The clause is intended to clarify that each provision within the NFP stands on its own because each provision is distinct and has its own rationale for inclusion, the effect of which varies depending on the identified provision.

Changes: The following severability clause has been added to the NFP: “If any provision of this NFP or its application to any person, act, or practice is held invalid, the remainder of the NFP or the application of its provisions to any other person, act, or practice will not be affected thereby.”

Definitions

Comments: Many commenters suggested broadening the definition of “early intervention” services to include universal or preventive approaches. Many commenters believe that the definition of “early intervention” is too restrictive and does not account for the full continuum of mental health services for students.

Discussion: Although the definition of early intervention services may not represent the continuum of services that a school provides, the Department's preference is to focus these funds on increasing the number of credentialed school psychologists who are available to provide early intervention and intensive mental health services to ensure schools are equipped to provide the necessary clinical mental health services that some students need to support their academic success in school.

Changes: None.

Comments: Several commenters suggested that the definition of “eligible institution of higher education partner” be expanded to include any program of study that leads to a graduate degree in any profession that prepares candidates to obtain any State mental health professional license or certification under State law to provide mental health services.

Discussion: Given the shortages of school psychologists, the Department is focusing this program on training a sufficient number of school psychologists to provide mental health services in school settings. School psychologists are uniquely positioned to provide clinical mental health services to students and, as such, any IHE partners should be focused on training and preparing school psychologists.

Changes: None.

Comments: One commenter suggested changing the definition of “high-need LEA” to include “community violence,” as they believe that “school violence” is too limiting.

Discussion: The Department appreciates this comment, however, there are other Federal, State, and local resources to address community violence. The Department believes that this program should focus on addressing the impact of violence that occurs at school and directly disrupts the learning environment.

Changes: None.

Comments: One commenter suggested changing the definition of “high-need LEA” to remove the requirement that the LEA must have experienced a traumatic event since January 1, 2025 or have received a Project SERV grant. They contend that this is an arbitrary distinction and does not account for the number of high-need LEAs or schools that have experienced ongoing trauma or who did not apply for or receive a Project SERV grant.

Discussion: The Department believes that these limited funds are best used to support students most in need, including those recovering from recent traumatic events, such as those who have received a Project SERV grant. Also, to clarify, for LEAs that have not experienced a traumatic event since January 1,2025, the LEAs may still meet the definition of high-need LEAs if they have a ratio of students to school psychologists that exceeds 500 students to 1 school psychologist and high rates of school violence, poverty, substance use, suicide, trafficking, or other adverse childhood experiences.

Changes: None.

Final Priorities

The Department establishes the following priorities for use in this program. We may use one or more of these priorities in any year in which this program is in effect.

Priority 1—Enhance SEA efforts to address shortages of school psychologists in high-need LEAs.

To meet this priority, an SEA applicant must propose a project designed to train and place school psychology graduate candidates into high-need LEAs for the purpose of fulfilling requirements necessary to complete a degree and obtain a license or certification as a credentialed school psychologist.

Priority 2—Expand the capacity of high-need LEAs to address shortages of school psychologists.

To meet this priority, the applicant must propose a project designed to train and place school psychology graduate candidates into high-need LEAs for the purpose of fulfilling requirements necessary to complete a degree and obtain a license or certification as a credentialed school psychologist.

Priority 3—Increase the number of credentialed school psychologists available to deliver early intervention mental health services and intensive mental health services in high-need LEAs.

To meet this priority, applicants must propose to increase the number of credentialed school psychologists available to engage in:

(a) Providing intensive mental health services and supports to individual students most in need of those services,

(b) Providing early intervention mental health services to address acute concerns and determine if intensive mental health services are needed.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

The Department establishes the following application and program requirements for this program. We may apply one or more of these requirements in any year in which the program is in effect.

Application Requirements

(a) SEA applicants must identify in their applications the specific high-need LEAs that will benefit from the grant or describe how they will identify and select the high-need LEAs that will benefit from the grant.

(b) Applicants must describe in their applications a school-based mental health partnership designed to train school psychology graduate candidates and place them into participating high-need LEAs.

(c) Applicants must include in their applications the most recently available data on the number of school psychologists in the high-need LEA(s) and the projected number of school psychology graduate candidates that will be trained and placed into employment in the identified LEA(s) for each year of the plan using funds from this grant.

Program Requirements

(a) Eligible applicants for this program are one or both of SEAs, as defined in 20 U.S.C. 7801(49), or LEAs, as defined in 20 U.S.C. 7801(30), including consortia of LEAs.

(b) Applicants that receive an award under this program must use grant funds to supplement, and not supplant, non-Federal funds that would otherwise be available for activities funded under this program.

(c) Administrative costs for SEA applicants that receive an award under this program may not exceed 10 percent of the annual grant award. Administrative costs for applicants that are LEAs and consortia of LEAs may not exceed five percent of the annual grant award.

(d) Applicants that receive an award under this program are prohibited from using program funds for: (1) gender ideology, (2) political activism, (3) racial stereotyping, or (4) hostile environments for students of particular races.

(e) Applicants that receive an award under this program must provide within six months of award a memorandum of understanding (MOU), a memorandum of agreement (MOA), or letter of agreement documenting the applicant's school-based mental health partnership, as defined in this notice to the Department. The agreement must be signed by each entity's authorized representative. The agreement must detail each entity's roles and responsibilities in training and placing school psychology graduate candidates into high-need LEAs to achieve the goals and objectives of the project.

(f) Applicants that receive an award under the program must comply with section 4001(a) of Title IV of the ESEA. In carrying out the Informed Written Consent requirements described in paragraph (a)(1), the exception in (a)(2)(B)(i) only applies after the applicant has documented that it has made multiple repeated attempts through various communication methods to obtain parent consent. Subsequently, where parent consent is not obtained under (a)(2), not including the provisions in (a)(2)(B)(ii), the parent of a child participating in such services will be provided notice of initial and subsequent service delivery.

(g) Applicants that receive an award under this program must ensure that any school psychologist or any school psychology graduate candidate offering services does so in a manner consistent with the Family Educational Rights and Privacy Act (FERPA), the Protection of Pupil Rights Amendment (PPRA), the Individuals with Disabilities Education Act (IDEA), Section 504 of the Rehabilitation Act, and the Americans with Disabilities Act, as well as all other applicable Federal, State, and local laws.

Final Definitions

The Secretary establishes the definitions of “credentialed,” “early intervention mental health services,” “eligible institution of higher education partner,” “high-need LEA,” “intensive mental health services,” “school psychology graduate candidate,” “school-based mental health partnership,” for use in this program. We may apply these definitions in any year in which this program is in effect.

Credentialed means an individual who possesses a valid license or certificate from the SEA or relevant regulatory body as a school psychologist approved by the State to provide services aligned with the practice of school psychology.

Early intervention mental health services mean services for students who are exhibiting signs of distress or impairment or are at heightened risk of needing mental health services. Based on current best practices in school psychology for serving an individual student, early intervention mental health services may include, for example, screening and referrals, small group services, and or brief individualized interventions.

Eligible institution of higher education partner means an institution of higher education as defined in 20 U.S.C. 1002 that offers a program of study that leads to a master's degree or other graduate degree in school psychology that prepares graduate candidates for a State credential as a school psychologist.

High-need LEA means an LEA that has a significant need for additional school psychologists based on:

(a)(1) a ratio of students to school psychologists that exceeds a ratio of 500 students to 1 school psychologist and (2) high rates of school violence, poverty, substance use, suicide, trafficking, or other adverse childhood experiences;

(b) having received a Project School Emergency Response to Violence (SERV) grant from the U.S. Department of Education since October 1, 2020; or

(c) having experienced a traumatic event since January 1, 2025, and did not receive a Project School Emergency Response to Violence (SERV) grant from the U.S. Department of Education.

Intensive mental health services mean services for students with identified mental health needs that limit engagement throughout the school day. Based on the best clinical approach to serving an individual student, intensive mental health services may include, for example, individual, group, or family therapy services, or coordination of services with providers serving the student in a non-school setting.

School psychology graduate candidate means an individual who is (a) pursuing a Master's degree, or State-recognized equivalent, in school psychology and (b) will be eligible upon completion of the program for a license or certification from a State or national credentialing authority as a school psychologist approved by the State to deliver school-based mental health services.

School-based mental health partnership is the formal relationship, established for the purpose of training and placing school psychology graduate candidates into high-need LEAs, between the eligible applicant (one or more high-need LEAs or an SEA) and its partners, who must include:

(a) One or more eligible institutions of higher education partners, as defined in this notice, or

(b) One or more entities, recognized by the State, to train and prepare school psychology graduate candidates for a school psychology credential; or

(c) State entities such as Governors, State workforce development agencies or boards, State vocational rehabilitation agencies, or State higher education agencies.

Severability: If any provision of this NFP or its application to any person, act, or practice is held invalid, the remainder of the NFP or the application of its provisions to any other person, act, or practice will not be affected thereby.

Executive Orders 12866, 13563, and 14192

Regulatory Impact Analysis: This regulatory action is not a significant regulatory action subject to review by the Office of Management and Budget under section 3(f) of Executive Order 12866. This regulatory action is not considered an “Executive Order 14192 regulatory action.” We have also reviewed this regulatory action under Executive Order 13563. We are issuing the priorities, requirements, and definitions only on a reasoned determination that their benefits would justify their costs. The Department believes that this regulatory action is consistent with the principles in Executive Order 13563. We also have determined that this regulatory action would not unduly interfere with State, local, and Tribal governments in the exercise of their governmental functions. In accordance with these Executive Orders, the Department has assessed the potential costs and benefits, both quantitative and qualitative, of this regulatory action. The potential costs are those resulting from statutory requirements and those we have determined are necessary for administering the Department's programs and activities.

Discussion of Costs and Benefits: The Department believes that these proposed priorities, requirements, and definitions would not impose significant costs on eligible entities, whose participation in this program is voluntary, and whose costs can generally be covered with grant funds. As a result, the proposed priorities, requirements, and definitions would not impose any particular burden, except when an entity voluntarily elects to apply for a grant. The proposed priorities, requirements, and definitions would help ensure that the grant program selects high-quality applicants to implement activities that meet the goals of the program. We believe these benefits would outweigh any associated costs.

Intergovernmental Review: This action is subject to Executive Order 12372 and the regulations in 34 CFR part 79. This document provides early notification of our specific plans and actions for this program.

Regulatory Flexibility Act Certification: This section considers the effects that the final regulations may have on small entities in the educational sector as required by the Regulatory Flexibility Act, 5 U.S.C. 601 et seq. The Secretary certifies that this regulatory action would not have a significant economic impact on a substantial number of small entities. The small entities that these priorities, requirements, and definitions would affect are LEAs applying for and receiving funds under this program. We believe that the costs imposed on an applicant by the priorities, requirements, and definitions would be limited to paperwork burden related to preparing an application and that the benefits of the priorities, requirements, and definitions would outweigh any costs incurred by the applicant.

Participation in this program is voluntary. For this reason, the priorities, requirements, and definitions would impose no burden on small entities unless they applied for funding under the program. Eligible applicants would determine whether to apply for funds and would weigh the requirements for preparing applications, and any associated costs, against the likelihood of receiving funding and the requirements for implementing projects under the program. Eligible applicants most likely would apply only if they determine that the likely benefits exceed the costs of preparing an application. The likely benefits include the potential receipt of a grant as well as other benefits that may accrue to an entity through its development of an application, such as the use of that application to seek funding from other sources to address a shortage in school-based mental health services providers.

Paperwork Reduction Act: In the NPP, we explained that the proposed priorities, requirements, and definitions contained information collection requirements that are covered under OMB control number 1810-0772 and that the priorities, requirements, and definitions did not affect the currently approved data collection. Since publishing the NPP, we have conducted a review of the final priorities, requirements, and definitions and believe it would be most efficient to collect the information associated with the priorities, requirements, and definitions using the more broadly used, also approved Generic Application Package for Departmental Generic Grant Programs (OMB control number 1894-0006).

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or another accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Hayley B. Sanon,
Principal Deputy Assistant Secretary and Acting Assistant Secretary, Office of Elementary and Secondary Education.

[FR Doc. 2025-18893 Filed 9-26-25; 8:45 am]

BILLING CODE 4000-01-P